DEPARTMENT OF ENERGY

Federal Energy Regulatory Commission

Notice of Application Ready for Comments, Recommendations, Terms and Conditions, and Prescriptions and Establishing a Revised Procedural Schedule for Relicensing

May 18, 2006.

Take notice that the following hydroelectric application and applicant-prepared environmental assessment has been filed with the Commission and is available for public inspection.

a. Type of Applications: New Major Licenses.

b. Project Nos.: 12606-000 and 2545-091.

c. Date Filed: July 28, 2005.

d. Applicant: Avista Corporation.

e. Name of Projects: (1) Post Falls and (2) Spokane River Development of the Spokane River.

f. Location: Post Falls—on the Spokane River and Coeur d'Alene Lake in portions of Kootenai and Benewah counties, Idaho. The project occupies Federal lands under the supervision of the U.S. Bureau of Indian Affairs, and may occupy lands under the supervision of the U.S. Forest Service and the U.S. Bureau of Land Management.

Spokane River Developments—on the Spokane River in portions of Steven and Lincoln counties, Washington. No Federal lands are included.

g. Filed Pursuant to: Federal Power Act 16 U.S.C. 791(a)-825(r).

h. Applicant Contact: Bruce F. Howard, License Manager, Avista Corporation, 1411 East Mission, P.O. Box 3727, Spokane, Washington 99220-3727; telephone: (509) 495-2941.

i. FERC Contact: John S. Blair, at (202) 502-6092, john.blair@ferc.gov.

j. Deadline for filing comments, recommendations, terms and conditions, and prescriptions is 60 days from the issuance date of this notice; reply comments are due 105 days from the issuance date of this notice.

All documents (original and eight copies) should be filed with: Magalie R. Salas, Secretary, Federal Energy Regulatory Commission, 888 First Street, NE., Washington, DC 20426.

The Commission's Rules of Practice require all intervenors filing with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing.

l. The Post falls hydroelectric development, has a seasonal storage capacity consisting of the 40,402 acre Coeur d'Alene Lake with a usable storage capacity of 223,100 acre-feet. The facility is composed of a 431-foot-long, 31-foot-high dam across the north channel of the Spokane River, a 127-foot-long, 25-foot-high dam across the south channel, and a 215-foot-long, 64-foot-high dam across the middle channel; six 56-foot-long, 11.25-foot-diameter penstocks; and a 6-unit powerhouse integral to the middle channel dam with a generator nameplate capacity of 14.75 megawatts.

The Spokane River Developments include four hydroelectric developments (HED) with a total authorized capacity of 122.92 MW as follows:

(1) Upper Falls HED is a run-of-river facility consisting of a 366-foot-long, 35.5-foot-high dam across the north channel of the Spokane River; a 70-foot-long, 30-foot-high intake structure across the south channel; an 800-acre-foot reservoir; a 350-foot-long, 18-foot-diameter penstock; and a single-unit powerhouse with a generator nameplate capacity of 10 MW.

(2) Monroe Street HED is a run-of-river facility consisting of a 240-foot-long, 24-foot-high dam; a 30-acre-foot reservoir; a 332-foot-long, 14-foot-diameter penstock; and an underground single-unit powerhouse with a generator nameplate capacity of 14.82 MW.

(3) Nine Mile HED is a run-of-river facility consisting of a 466-foot-long, 58-foot-high dam; a 4,600 acre-foot reservoir; a 120-foot-long, 5 foot-diameter diversion tunnel; and a 4-unit powerhouse with a nameplate capacity of 26.4 MW.

(4) Long Lake HED is a storage-type facility consisting of a 593-foot-long, 213-foot-high main dam; a 247-foot-long, 108-foot-high cutoff dam; a 105,080-acre-foot reservoir; four 236-foot-long, 16-foot-diameter penstocks; and a 4-unit powerhouse with a nameplate capacity of 71.7 MW.

m. A copy of the application is available for review in the Commission's Public Reference Room or may be viewed on its Web site: http://www.ferc.gov, using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit comments or recommendations in accordance with the requirements of Rules of Practice and Procedure, 18 CFR 385.210, 386.211, and 385.214. In determining the appropriate action to take, the Commission will consider all comments and recommendations filed, but only those who have filed a motion to intervene in accordance with the Commission's Rules may become a party to the proceeding.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with requirements of 18 CFR 4.34(b). Agencies may obtain copies of the application directly from the applicant. A copy of all filings in reference to this application must be accompanied by proof of service on all persons listed in the service list prepared by the Commission in this proceeding, in accordance with 18 CFR 4.34(b) and 385.2010.

o. Procedural Schedule (supercedes Procedural Schedule notice dated August 5, 2005) The application will be processed according to the following schedule. Revisions to the schedule may be made as appropriate.

Notice soliciting comments, recommendations, terms and conditions, and prescriptions: May 18, 2006.

Comments, recommendations, terms and conditions, and prescriptions due: 60 days from issuance date of this notice.

Reply comments on recommendations, terms and conditions, and prescriptions due: 105 days from issuance date of this notice.

Notice of availability of draft EIS: December 30, 2006.

Notice of availability of final EIS: June 30, 2007.

Ready for Commission's decision on the application: September 30, 2007.

Magalie R. Salas,
Secretary.

[FR Doc. E6-7960 Filed 5-23-06; 8:45 am]

BILLING CODE 6717-01-P